DEPARTMENT OF HOMELAND SECURITY

Coast Guard

33 CFR Part 165

[Docket No. USCG-2018-0764]

Safety Zone; Annual Swim for Alligator Reef Lighthouse, Islamorada, FL

AGENCY: Coast Guard, DHS.

ACTION: Notice of enforcement of regulation.

SUMMARY: The Coast Guard will enforce the temporary safety zone for the 6th Annual Swim for Alligator Reef Lighthouse, Islamorada, Florida from 6:30 a.m. until 4:30 p.m. on September 15, 2018. Our regulation for Recurring Safety Zones in Captain of the Port Key West Zone identifies the regulated area for this event. This action is necessary to ensure the safety of event participants and spectators. During the enforcement period, no person or vessel may enter, transit through, anchor in, or remain within the regulated area without approval from the Captain of the Port Key West or a designated representative.

DATES: The regulations in 33 CFR 165.786, Table to § 165.786, Line No. 9.1 will be enforced from 6:30 a.m. until 4:30 p.m. on September 15, 2018.

FOR FURTHER INFORMATION CONTACT: If you have questions on this notice, call or email Gregory Bergstrom, Sector Key West Waterways Management Department, Coast Guard; telephone (305) 292-8772; email Greg.C.Bergstrom@uscg.mil.

SUPPLEMENTARY INFORMATION: The Coast Guard will enforce the safety zones in 33 CFR 165.786, Table to § 165.786, Line No. 9.1, from 6:30 a.m. until 4:30 p.m. on September 15, 2018, for the annual Swim for Alligator Reef Lighthouse in Islamorada, Florida. Our regulation for Recurring Safety Zones in Captain of the Port Key West Zone, § 165.786, Line No. 9.1, specifies the location of the regulated area as all within 50 yards in front of the lead safety vessel preceding the first event participants, 50 yards behind the safety vessel trailing the last event participants, and at all times extend 100 yards on either side of the safety vessels.

This action prevents vessels from transiting areas specifically designated as safety zones during the periods of enforcement. During the enforcement period, no person or vessel may enter, transit through, anchor within, or remain within the established regulated areas without approval from the Captain of the Port Key West or designated representative. The Coast Guard may be assisted by other Federal, State, or local law enforcement agencies in enforcing this regulation.

The Coast Guard will provide notice of the regulated area by Local Notice to Mariners and Broadcast Notice to Mariners. If the Captain of the Port Key West determines that the regulated area need not be enforced for the full duration stated in this publication, he or she may use a Broadcast Notice to Mariners to grant general permission to enter the regulated area.

Dated: August 27, 2018.
F.S. Rego,
Captain, U.S. Coast Guard, Captain of the Port Key West.

[FR Doc. 2018-18931 Filed 8-30-18; 8:45 am]

BILLING CODE 9110-04-P